NATIONAL AERONAUTICS AND SPACE ADMINISTRATION

[Notice (19-061)]

NASA Advisory Council; Technology, Innovation and Engineering Committee; Meeting.

AGENCY: National Aeronautics and Space Administration.

ACTION: Notice of meeting.

SUMMARY: In accordance with the Federal Advisory Committee Act, as amended, the National Aeronautics and Space Administration (NASA) announces a meeting of the Technology, Innovation and Engineering Committee of the NASA Advisory Council (NAC). This Committee reports to the NAC.

DATES: Tuesday, October 29, 2019, 8:30 a.m.-5:00 p.m., Eastern Time.

ADDRESSES: NASA Kennedy Space Center, Headquarters Building, Conference Room 6440, Kennedy Space Center, Florida 32899.

FOR FURTHER INFORMATION CONTACT: Mr. Mike Green, Designated Federal Officer, Space Technology Mission Directorate, NASA Headquarters, Washington, DC 20546, (202) 358-4710, or g.m.green@nasa.gov.

SUPPLEMENTARY INFORMATION: The meeting will be open to the public up to the seating capacity of the room. This meeting will also be available telephonically and by WebEx. You must use a touch-tone phone to participate in this meeting. Any interested person may dial the toll-free access number 1-844-467-6272 and enter the numeric participant passcode 102421 followed by the # sign. The WebEx link is https://nasaenterprise.webex.com, the meeting number is 904 215 718, and the password is n@cTIE1019. Note: If dialing in, please “mute” your telephone. The agenda for the meeting includes the following topics:

—NASA Kennedy Space Center Overview

—Space Technology Mission Directorate Update and Discussion

—Lunar Surface Innovation Initiative Update

—Office of the Chief Technologist Update

—Synthetic Biology/Center for the Utilization of Biological Engineering in Space (CUBES) Update

—Nuclear Thermal Propulsion Update

—Early Career Initiative Overview

Attendees will be requested to sign a register and to comply with NASA Kennedy Space Center security requirements, including the presentation of a valid picture ID to NASA Security before access to NASA Kennedy Space Center. Foreign nationals attending this meeting will be required to provide a copy of their passport and visa in addition to providing the following information no less than 15 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status no less than 3 working days prior to the meeting. Information should be sent to Ms. Anyah Dembling via email at anyah.dembling@NASA.gov. It is imperative that the meeting be held on these dates to accommodate the scheduling priorities of the key participants.

Patricia Rausch,
Advisory Committee Management Officer, National Aeronautics and Space Administration.

[FR Doc. 2019-22227 Filed 10-9-19; 8:45 am]

BILLING CODE 7510-13-P